DEPARTMENT OF THE INTERIOR

Fish and Wildlife Service

[Docket No. FWS-R6-ES-2011-0022; 92220-1113-0000-C3]

Nonessential Experimental Populations of Gray Wolves in the Northern Rocky Mountains; Lethal Take of Wolves in the West Fork Elk Management Unit of Montana; Draft Environmental Assessment

AGENCY: Fish and Wildlife Service, Interior.

ACTION: Notice of availability; request for comments.

SUMMARY: We, the U.S. Fish and Wildlife Service (Service), announce the availability of a draft environmental assessment (EA) of the Montana Department of Fish, Wildlife, and Parks (MFWP) proposal to lethally take wolves in the West Fork Elk Management Unit (EMU) in western Montana in response to impacts on elk populations. The MFWP's proposal was submitted under the Endangered Species Act (ESA) and our special regulations under the ESA for the central Idaho and Yellowstone area nonessential experimental populations of gray wolves in the Northern Rocky Mountains. The draft EA describes the environmental effects of two alternatives: (1) The preferred alternative, which would approve the MFWP proposal to reduce the wolf population in the West Fork EMU to a minimum of 12 wolves in 2 to 3 packs for a period of 5 years, in response to impacts on elk populations; and (2) a no-action alternative, which would deny the proposal to reduce the wolf population in the West Fork EMU. Under the no-action alternative, wolves in the West Fork EMU would continue to be managed as a nonessential experimental population and could be removed by the Service or its designated agents when livestock, stock animals, or dogs are killed by wolves.

DATES: To ensure consideration, we must receive your written comments on the draft EA no later than April 12, 2011. Please note that if you are using the Federal eRulemaking Portal (see ADDRESSES section), the deadline for submitting an electronic comment is 11:59 p.m. Eastern Time on this date.

ADDRESSES: Documents: The draft EA is available electronically at http://www.regulations.gov under Docket Number FWS-R6-ES-2011-0022. Alternatively, you may request the document by writing to: Ed Bangs, Attn: West Fork EMU Wolf 10(j) proposal, USFWS Montana Field Office, 585 Shepard Way, Helena, MT 59601.

Comments: You may submit comments by one of the following methods:

• Electronically: Go to the Federal eRulemaking Portal: http://www.regulations.gov. In the “Select Document Type” pull-down list, select “Search All.” In the “Enter Keyword or ID” field, type FWS-R6-S-2011-0022, which is the docket number for this action. Then click the “Search” button. Once you have found the document, you may submit a comment by clicking on “Submit a Comment.”

• By hard copy: Submit by U.S. mail or hand deliver to: Public Comments Processing, Attn: FWS-R6-ES-2011-0022; Division of Policy and Directives Management; U.S. Fish and Wildlife Service; 4401 N. Fairfax Drive, MS 2042-PDM; Arlington, VA 22203.

We will post all comments on http://www.regulations.gov. This generally means that we will post any personal information you provide us (see Public Comment Procedures and Public Availability of Comments under SUPPLEMENTARY INFORMATION for more information).

FOR FURTHER INFORMATION CONTACT: Ed Bangs, NRM Wolf Coordinator, U.S. Fish and Wildlife Service, USFWS Montana Field Office (see ADDRESSES), at 406-449-5225; or ed_bangs@fws.gov (e-mail). Individuals who are hearing impaired or speech impaired may call the Federal Information Relay Service (FIRS) at 800-877-8339.

SUPPLEMENTARY INFORMATION:

Background

We are evaluating whether or not to authorize lethal take of wolves in an ESA-designated nonessential experimental population in the West Fork EMU in the State of Montana. The West Fork EMU is 1 of 35 elk management units in Montana. The proposed action is in response to a proposal from MFWP to reduce gray wolf predation on the wild elk population in the West Fork EMU for a period of 5 years.

In 1974, Northern Rocky Mountain gray wolves (Canis lupus irremotus), as well as three other gray wolf subspecies, were listed as endangered under the authority of the Endangered Species Act of 1973 (ESA; U.S.C. 1531 et seq.) (January 4, 1974; 39 FR 1171). In 1978, the listing was changed from listing subspecies to a species-level listing in the contiguous U.S., with wolves in Minnesota listed as threatened and wolves in the rest of the contiguous U.S. listed as endangered (March 9, 1978; 43 FR 9607).

The ESA Amendments of 1982 (Pub. L. 97-304) made significant changes to the ESA, including the creation of section 10(j), which provides for the designation of specific populations of listed species as experimental. Under previous authorities in the ESA, the Service was authorized to reintroduce a listed species into unoccupied portions of its historical range for conservation and recovery purposes. However, in some cases, local opposition to reintroduction efforts from parties concerned about potential restrictions under sections 7 and 9 of the ESA, made reintroductions contentious or even socially unacceptable.

Under ESA section 10(j), a listed species reintroduced outside of its current range may be designated, at the discretion of the Secretary of the Interior, as experimental. This designation increases the Service's flexibility and discretion in managing reintroduced endangered species, because the Service treats experimental populations as threatened species (with a few exceptions) and may promulgate special regulations that provide exceptions to the take prohibitions under section 9 of the ESA.

On November 22, 1994, we designated portions of Idaho, Montana, and Wyoming as two nonessential experimental population areas for the gray wolf under section 10(j) of the ESA: the Yellowstone Experimental Population Area (November 22, 1994; 59 FR 60252) and the Central Idaho Experimental Population Area (November 22, 1994; 59 FR 60266). These designations, which are found in the Code of Federal Regulations (CFR) at 50 CFR 17.40(i), assisted us in initiating gray wolf reintroduction projects in central Idaho and in the Greater Yellowstone Area (GYA). At that time, special regulations under section 10(j) allowed, among other things, livestock producers to lethally remove wolves that were in the act of killing, wounding, or biting livestock, and allowed the Service to lethally remove problem wolves. The 1994 designation did not contemplate lethally removing wolves to protect wild game species.

After being reintroduced to central Idaho and the GYA in 1995 and 1996 as nonessential experimental populations under section 10(j), wolves achieved biological recovery objectives in 2002 in Idaho, Montana, and Wyoming. Following biological recovery, the 1994 section 10(j) rule was amended in 2005 to give State and Tribal governments with Service-approved post-delisting management plans a role in gray wolf management and to allow such States and Tribes to lethally take wolves in response to “unacceptable impacts” to wild ungulate populations (January 6, 2005; 70 FR 1286). The 10(j) rule was amended again in 2008 to clarify the definition of “unacceptable impact” and the factors the Service must consider when a State or Tribe with Service-approved post-delisting management plans requests an exception from the take prohibitions of the ESA in response to wolf impacts on wild ungulate populations (January 28, 2008; 73 FR 4720).

Under the 2008 10(j) rule, States or Tribes with Service-approved post-delisting management plans may lethally take wolves within the experimental population areas if wolf predation is having an unacceptable impact on wild ungulate populations (deer, elk, moose, bighorn sheep, mountain goats, antelope, or bison) as determined by the respective State or Tribe, provided that the State or Tribe prepares a science-based document that: (1) Describes the basis of ungulate population or herd management objectives, which data indicate that the ungulate population or herd is below management objectives, which data indicate that wolves are a major cause of the unacceptable impact to the ungulate population or herd, why wolf removal is a warranted solution to help restore the ungulate population or herd to State or Tribal management objectives, the level and duration of wolf removal being proposed, and how ungulate population or herd response to wolf removal will be measured and control actions adjusted for effectiveness; (2) demonstrates that attempts were and are being made to address other identified major causes of ungulate herd or population declines, or the State or Tribe commits to implement possible remedies or conservation measures in addition to wolf removal; and (3) provides for an opportunity for peer review and public comment on their proposal prior to submitting it to the Service for written authorization of the proposal. In conducting peer review, the State or Tribe must: (i) Conduct the peer review process in conformance with the Office of Management and Budget's Final Information Quality Bulletin for Peer Review (January 28, 2008; 70 FR 2664), and include in their proposal an explanation of how the Bulletin's standards were considered and satisfied; and (ii) obtain at least five independent peer reviews from individuals with relevant expertise; these individuals must not be staff employed by the State, Tribal, or Federal agency directly or indirectly involved with predator control or ungulate management in Idaho, Montana, or Wyoming.

Before authorizing such lethal removal of wolves proposed by a State or Tribe, the Service must determine whether an unacceptable impact to wild ungulate populations or herds has occurred. We also must determine that the proposed lethal removal is science based, will not contribute to reducing the wolf population in the State below 20 breeding pairs and 200 wolves, and will not impede wolf recovery.

Draft Environmental Assessment

We are announcing the availability of a draft EA that was prepared to evaluate potential environmental effects associated with our authorization or denial of MFWP's proposal to lethally take wolves in the West Fork EMU in an effort to reduce wolf populations to a minimum of 12 wolves in 2 to 3 packs and reduce predation pressure on the elk population in that zone. We describe a no-action alternative and a preferred action, and analyze the environmental consequences of each alternative.

No-Action Alternative (Deny Requested Authorization). Under the no-action alternative, the Service would deny MFWP's 10(j) proposal to remove wolves in the West Fork EMU, and current management direction for wolves would continue. In the West Fork EMU, wolves would be managed by the Service or their designated agent and could be removed when livestock, stock animals, or dogs are killed by wolves as currently provided for in the 2008 10(j) rule (73 FR 4720, January 28, 2008). The management strategy for the no-action alternative would not include lethal removal of wolves in response to predation on wild ungulate populations.

Under the no-action alternative State and Tribal governments would continue to use their management activities to address major causes of elk declines other than wolf predation. Past management activities have included changes in elk hunting seasons and harvest strategies, changes in black bear and mountain lion seasons to address low calf survival, and efforts to improve elk habitat. These management activities would not be affected under the no-action alternative.

Preferred Alternative (Approve Requested Authorization). Under the preferred alternative, the Service would approve the MFWP 10(j) proposal to remove wolves in the West Fork EMU to reduce wolf predation on elk populations over a 5-year period. This alternative would provide an adaptive management strategy to reduce the wolf population. Wolves would be removed to manage for a minimum of 12 wolves in 2 to 3 packs. Based on the 2009 year-end wolf population estimate of 24 wolves residing in the West Fork EMU, the initial removal is estimated to be a minimum of 12 wolves. Levels of wolf removal in subsequent years are expected to be lower, and would be based on wolf-population monitoring. Management activities would be intended to protect the elk population in West EMU while maintaining wolf populations that meet recovery objectives. This alternative includes monitoring both wolf and elk populations yearly to determine elk response to the implementation of management activities and whether adaptive changes in wolf removal are needed based on yearly monitoring results.

Wolf removal would be accomplished by MFWP personnel and other approved agents of the State of Montana. Wolves that inhabit the West Fork EMU would be targeted for removal. Removal would be accomplished using legal means approved by the Service under provisions of the Service's 2008 10(j) rule. Wolf control would occur through fair chase hunting or trapping by the public, control actions by agency personnel or designees, or any combination of these. The MFWP is not proposing to use poison or other chemical means to control wolves. The goal of the removal would be to reduce pack sizes and, when appropriate, to remove entire packs. The primary removal effort would occur during the winter months. Most wolf control would occur on U.S. Forest Service lands outside of designated wilderness. The MFWP is not proposing to use aircraft to remove wolves from within designated wilderness. Wolf carcasses would be recovered from the field, when possible, and processed for collection of biological data. Hides and skulls would be used for educational purposes.

Next Steps

After the comment period ends, we will analyze comments received and determine whether to: (1) Prepare a final EA and Finding of No Significant Impact and authorize lethal take of wolves in West Fork EMU under section 10(j) of the ESA in response to wolf impacts on elk populations, (2) reconsider our preferred alternative and deny MFWP's proposal, or (3) determine that an Environmental Impact Statement should be prepared prior to authorizing or denying MFWP's proposal.

Public Comment Procedures

To ensure that any final action on the proposal will be as accurate and as effective as possible, we request that you send relevant information for our consideration. The comments that will be most useful and likely to influence our decisions are those that you support by quantitative information or studies and those that include citations to, and analyses of, the applicable laws and regulations. Please make your comments as specific as possible and explain the bases for them. In addition, please include sufficient information with your comments to allow us to authenticate any scientific or commercial data you include.

You must submit your comments and materials concerning the proposed action by one of the methods listed in the ADDRESSES section. We will not accept comments sent by e-mail or fax or to an address not listed in ADDRESSES. If you submit a comment via http://www.regulations.gov, your entire comment—including any personal identifying information, such as your address, telephone number, or e-mail address—will be posted on the Web site. Please note that comments submitted to this Web site are not immediately viewable. When you submit a comment, the system receives it immediately. However, the comment will not be publicly viewable until we post it, which might not occur until several days after submission.

If you mail or hand-carry a hardcopy comment directly to us that includes personal information, you may request at the top of your document that we withhold this information from public review. However, we cannot guarantee that we will be able to do so. To ensure that the electronic docket for this rulemaking is complete and all comments we receive are publicly available, we will post all hardcopy comments on http://www.regulations.gov.

In addition, comments and materials we receive, as well as supporting documentation used in preparing this proposed rule, will be available for public inspection in two ways:

(1) You can view them on http://www.regulations.gov. In the Enter Keyword or ID box, enter FWS-R6-ES-2011-0022, which is the docket number for this action. Then, in the Search panel at the top of the screen, select the type of documents you want to view under the Document Type heading.

(2) You can make an appointment, during normal business hours, to view the comments and materials in person at the location in the ADDRESSES section.

Public Availability of Comments

As stated above in more detail, before including your address, phone number, e-mail address, or other personal identifying information in your comment, you should be aware that your entire comment—including your personal identifying information—may be made publicly available at any time. While you can ask us in your comment to withhold your personal identifying information from public review, we cannot guarantee that we will be able to do so.

Authorities

The Environmental Review of this project will be conducted in accordance with the requirements of the National Environmental Policy Act (NEPA) of 1969, as amended (42 U.S.C. 4321 et seq.); NEPA Regulations (40 CFR parts 1500-1508); Department of the Interior NEPA regulations (43 CFR part 46); other appropriate Federal laws and regulations; Executive Order 12996; and Service policies and procedures for compliance with those laws and regulations.

Dated: March 3, 2011.
Richard A. Coleman,
Acting Regional Director, Denver, Colorado.

[FR Doc. 2011-6935 Filed 3-28-11; 8:45 am]

BILLING CODE 4310-55-P